DEPARTMENT OF TRANSPORTATION

Surface Transportation Board

[STB Finance Docket No. 33928]

Norfolk Southern Corporation and Norfolk Southern Railway Company—Construction and Operation—in Indiana County, PA

AGENCY: Surface Transportation Board, DOT.

ACTION: Notice of filing of application and request for public comments.

SUMMARY: Norfolk Southern Corporation and Norfolk Southern Railway Company have filed an application under 49 U.S.C. 10901(a) for authority to construct and operate a 5.26-mile line of railroad in Indiana County, PA.¹ The Board will entertain comments and replies on whether this application meets the criteria of 49 U.S.C. 10901.

¹ In anticipation of the filing of the application, applicants requested that the Board grant a protective order to maintain the confidentiality of sensitive materials. The request was granted in a decision served February 8, 2001.

DATES: Comments are due on January 31, 2002. Replies are due on February 5, 2002.

ADDRESSES: Send comments (an original and 10 copies) referring to STB Finance Docket No. 33928 to: Surface Transportation Board, Office of the Secretary, Case Control Unit, 1925 K Street, NW., Washington, DC 20423-0001. In addition, send one copy of comments to applicants' representatives: Constance A. Sadler, Sidley Austin Brown & Wood, 1501 K Street, NW., Washington, DC 20005 and John V. Edwards, Norfolk Southern Corporation, Three Commercial Place, Norfolk, VA 23510-2191.

FOR FURTHER INFORMATION CONTACT: Joseph H. Dettmar, (202) 565-1600. [TDD for the hearing impaired: 1-800-877-8339.]

SUPPLEMENTARY INFORMATION: On December 27, 2001, Norfolk Southern Corporation (NSC) and Norfolk Southern Railway Company (NSR) (collectively, NS) filed an application under 49 U.S.C. 10901(a)² for authority to construct and operate a 5.26-mile line of railroad between Saltzburg and Clarksburg, in Indiana County, PA (the Saltzburg Connection).³ The new line is part of a larger project creating a new route from the south for NSR to serve the Reliant Energy Keystone Generating Plant (Keystone Plant) at Shelocta, PA (the Keystone Project).⁴

² On the same day, NS filed a Petition for Procedural Schedule proposing a timetable for the submission of public comments and replies regarding this project, not including environmental review. The Board's regulations governing construction applications at 49 CFR 1150.10 establish the procedures for public participation. NS cited a need for expedition in support of its schedule. But the only effect of the schedule proposed by NS is to give itself additional time to reply to any comments. A need for expedition does not justify such a request. If the comments filed require more time for reply than that provided by the regulations, NS may seek additional time at that time. This proceeding shall be conducted according to 49 CFR 1150.10(g) and (h), as set forth in this notice.

³ According to applicants, NSC, NSR or one of their respective subsidiaries will construct, and NSR will operate, the new line of railroad.

⁴ The other parts of the project involve the rehabilitation of an out-of-service line between Clarksburg and Shelocta and the modification of the existing Keystone Connection near Shelocta that will connect the rehabilitated Clarksburg Segment with the existing Shelocta Industrial Running Track. The three parts of the project will be collectively referred to as the Shelocta Secondary.

NSR currently serves the Keystone Plant over the Northern Route, a circuitous and mountainous route utilizing trackage rights over a substantial portion of the route. Northern Route coal originates with Pittsburgh Steam coal producers located in southwest Pennsylvania and northern West Virginia on the NS-operated Monongahela Line.

NS contends that the new Southern Route will have a greater capacity than the existing Northern Route, and that it will save time, crews and locomotives required to provide rail deliveries to the Keystone Plant. NS further asserts that it will be a shorter, more efficient, effective, and environmentally superior alternative to the Northern Route. Although no shippers other than the Keystone Plant will be served by the new Southern Route, NS claims that the new route will provide an efficient service outlet to the rest of the NS system should new businesses locate in the area served by that route in the future.

Environmental review of the application is currently ongoing by the Board's Section of Environmental Analysis (SEA). On November 17, 2000, SEA granted NS's request for a waiver of the 6-month prefiling notice generally required for construction projects under 49 CFR 1105.10(a). NS filed a request for waiver of the Environmental Impact Statement under 49 CFR 1105.6 on January 16, 2001, which was granted by SEA in a letter dated January 24, 2001. Because a third-party consultant has been retained to prepare the necessary environmental documentation under the Board's direction and supervision, the Board's environmental reporting requirements are not applicable to this application. See 49 CFR 1105.10(d).

Written comments (an original and 10 copies) on the application to construct and operate the above-described rail line must be filed with the Board not later than January 31, 2002. Comments must contain the basis for the party's position either in support or opposition, and must contain the name and address of the commenting party. Applicants must be concurrently served with a copy of each comment. Any replies (an original and 10 copies) by applicants to written comments must be filed with the Board not later than February 5, 2002.

Board decisions and notices are available on our website at WWW.STB.DOT.GOV.

This decision will not significantly affect either the quality of the human environment or the conservation of energy resources.

Decided: January 15, 2002.
By the Board, David M. Konschnik, Director, Office of Proceedings.
Vernon A. Williams,
Secretary.

[FR Doc. 02-1515 Filed 1-18-02; 8:45 am]

BILLING CODE 4915-00-P